DEPARTMENT OF HEALTH AND HUMAN SERVICES

Office of the Secretary

Office of Minority Health; Availability of Funds for Grants for the Bilingual/Bicultural Service Demonstration Grant Program

Correction

In notice document 00-6897 beginning on page 15159, in the issue of Tuesday, March 21, 2000, make the following correction:

On page 15161, in the first column, in the fourth line, “not” should be added after “will”.

[FR Doc. C0-6897 Filed 3-31-00; 8:45 am]

BILLING CODE 1505-01-D

DEPARTMENT OF JUSTICE

Drug Enforcement Administration

21 CFR Parts 1301 and 1308

Schedules of Controlled Substances: Addition of Gamma-Hydroxybutyric Acid to Schedule I

Correction

In rule document 00-5925 beginning on page 13235, in the issue of Monday, March 13, 2000, make the following corrections:

1. On page 13237, in the third column, in paragraph 6., in the third line, “§§1394,21-1394,23” should read “§§1304.21-1304.23”.

2. On the same page, in the same column, in prargraph 10., in the first line, “Important” should read “Importation ”.

[FR Doc. C0-5925 Filed 3-31-00; 8:45 am]

BILLING CODE 1505-01-D

NUCLEAR REGULATORY COMMISSION

10 CFR Part 72

RIN 3150-AG19

List of Approved Spent Fuel Storage Casks; Revision, NUHOMS 24-P and NUHOMS 52-B

Correction

In rule document 00-7431 beginning on page 16299 in the issue of March 28, 2000, make the following corrections:

§72.214 [Corrected]

1. On page 16302, in the second column, in the fifth line, “Amendment No. 0 is applicable for casks manufactured before [insert effective date of final rule].” should read “Amendment No. 0 is applicable for casks manufactured before April 27, 2000.”

2. On the same page, in the same column, in the eighth line, “Amendment No. 1 is applicable for casks manufactured after [insert effective date of final rule].” should read “Amendment No. 1 is applicable for casks manufactured after April 27, 2000.”

[FR Doc. C0-7431 Filed 3-31-00; 8:45 am]

BILLING CODE 1505-01-D

The President

3 CFR

Proclamation 7283 of March 24, 2000

Greek Independence Day: A National Day of Celebration of Greek and American Democracy, 2000

Correction

In Presidential document 00-7900 beginning on page 16509 in the issue of March 29, 2000, the date of the proclamation shoud read as above.

[FR Doc. C0-7900 Filed 03-31-00; 8:45 am]

BILLING CODE 1505-01-D